DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Trinity Industries Incorporated

(Docket Number FRA-2001-9486)

The Trinity Industries, Inc. (TII) has petitioned FRA for a permanent waiver of compliance for a new design 100 Ton Seven Unit Articulated Intermodal Ramp Car (Ramp Car) from the requirements provided in title 49 CFR, 231.18, Cars of Special Construction, which states: “Cars of construction not covered specifically in the foregoing sections in this part, relative to handholds, sill steps, ladders, hand brakes and running boards may be considered as of special construction, but shall have, as nearly as possible, the same complement of handholds, sill steps, ladders, hand brakes, and running boards as are required for cars of the nearest approximate type.”

The nearest approximate type of car for this new design Ramp Car is a flat car, as described in 49 CFR, 231.6, Flat Cars. Specifically, TII is seeking relief of four (4) requirements described below:

Hand Brake Locations, 49 CFR 231.6 (a)(3)(ii) requires that “The Brake shaft shall be located on the end of car to the left of center, or on side of car not more than 36 inches from right-hand end thereof.” TII stated that it cannot meet this requirement because two brakes are required to restrain the car, but because of the ramp location at the “A” end of the car, a handbrake cannot be located within the required 36 inches from the end of the car. Also, during operation of the ramp for loading and unloading of the car, it will be necessary to apply and release the handbrakes. Accordingly the handbrakes are located as close as possible to the ramp and on the “B” end of the “G” and “F” units;

Sill Step Location, 49 CFR, 231.1(d)(3)(i) requires that “One near each end of each side of car, so that there shall be not more than 18 inches from end of car to center of tread of sill step.” TII stated that the sill step is located three (3) feet and four (4) inches, or 40 inches from the end of car. The sill step is essentially cut-out from the side sill. The sill step has a minimum of clearance of two (2) inches. TII stated that the “A” end sill steps cannot meet the requirement due to the integral ramp. The sill step is 12 inches wide with an anti-skid surface, and a clear depth of eight (8) inches. A toe guard is also provided.

Side Handholds, 49 CFR 231.6(c)(3)(i) requires that “Horizontal, one on face of each side sill near each end. Clearance of outer end of handhold shall be not more than 12 inches from end of car.” TII stated that the handhold is vertical and is located three (3) feet and four (4) inches or 40 inches, from the “A” end of the car. The end sill steps cannot meet the requirement due to the integral ramp.

End Handholds, 49 CFR 231.6(d)(3)(i) requires that “Horizontal, one near each side of each end of car on face of end sill. Clearance of outer end of handhold shall be not more than 16 inches from side of car.” TII stated that because the ramp is an integral part of the Ramp Car, there is no end sill. Hence a handhold cannot be positioned in a horizontal orientation. Instead, TII proposes four (4) vertical handholds located on both side guards of the two ramps and are used only when the ramps are in the up position.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Docket Number FRA-2001-9486) and must be submitted to the Docket Clerk, DOT Central Docket Management Facility, Room PL-401, Washington, D.C., 20590-0001. Communications received within 45 days of the date of this notice will be considered by FRA before final action is taken. Comments received after that date will be considered as far as practicable. All written communications concerning these proceedings are available for examination during regular business hours (9:00 a.m.-5:00 p.m.) at the above facility. All documents in the public docket are also available for inspection and copying on the Internet at the docket facility's Web site at http://dms.dot.gov.

Issued in Washington, D.C. on July 5, 2001.
Grady C. Cothen, Jr.,
Deputy Associate Administrator for Safety Standards and Program Development.

[FR Doc. 01-17377 Filed 7-10-01; 8:45 am]

BILLING CODE 4910-06-P